DEPARTMENT OF JUSTICE

Parole Commission

Public Announcement; Pursuant to the Government in the Sunshine Act

(Pub. L. 94-409) [5 U.S.C. Section 552b]

AGENCY HOLDING MEETING: Department of Justice, United States Parole Commission.

TIME AND DATE: 10 a.m., Thursday, January 22, 2009.

PLACE: 5550 Friendship Blvd., Fourth Floor, Chevy Chase, MD 20815.

Status: Open.

Matters To Be Considered

The following matters have been placed on the agenda for the open Parole Commission meeting:

1. Approval of Minutes of December 2008 Quarterly Business Meeting.

2. Reports from the Chairman, Commissioners, Chief of Staff, and Section Administrators. Agency Contact; Thomas W. Hutchison, Chief of Staff, United States Parole Commission, (301) 492-5990.

Dated: January 12, 2009.
Rockne J. Chickinell,
General Counsel, U.S. Parole Commission.

[FR Doc. E9-1050 Filed 1-16-09; 8:45 am]

BILLING CODE 4410-31-P